DEPARTMENT OF HOMELAND SECURITY

Coast Guard

33 CFR Part 100

[Docket No. USCG-2019-0235]

Special Local Regulation: Fort Lauderdale Air Show; Atlantic Ocean, Fort Lauderdale, FL

AGENCY: Coast Guard, DHS.

ACTION: Notice of enforcement of regulation.

SUMMARY: The Coast Guard will enforce a special local regulation for the Fort Lauderdale Air Show from May 4 through 5, 2019, to provide for the safety of life on navigable waterways during this event. During the enforcement periods, the operator of any vessel in the regulated area must comply with directions from the Patrol Commander or any Official Patrol displaying a Coast Guard ensign.

DATES: The special local regulation in 33 CFR 100.726 will be enforced from 9 a.m. until 6 p.m., each day on May 4 and 5, 2019.

FOR FURTHER INFORMATION CONTACT: If you have questions about this notice of enforcement, call or email Omar Beceiro, Sector Miami Waterways Management Division, U.S. Coast Guard; telephone 305-535-4317, email Omar.Beceiro@uscg.mil.

SUPPLEMENTARY INFORMATION: The Coast Guard will enforce the special local regulation in 33 CFR 100.726 for the Fort Lauderdale Air Show regulated area from 9 a.m. through 6 p.m. on May 4 and 5, 2019. This action is being taken to provide for the safety of life on navigable waterways during this 2-day event. Our regulation for the Fort Lauderdale Air Show, § 100.726, specifies the location of the regulated area for the Fort Lauderdale Air Show which is located on the Atlantic Ocean, east of Ft. Lauderdale, FL. During the enforcement periods, if you are the operator of a vessel in the regulated area you must comply with directions from the Patrol Commander or any Official Patrol displaying a Coast Guard ensign.

In addition to this notice of enforcement in the Federal Register, the Coast Guard plans to provide notification of this enforcement period via the Local Notice to Mariners and marine information broadcasts.

Dated: April 30, 2019.
M.M. Dean,
Captain, U.S. Coast Guard, Captain of the Port Miami.

[FR Doc. 2019-09128 Filed 5-2-19; 8:45 am]

BILLING CODE 9110-04-P